DEPARTMENT OF JUSTICE

28 CFR Part 16

[CPCLO Order No. 005-2016]

Privacy Act of 1974; Implementation; Extension of Comment Period

AGENCY: Federal Bureau of Investigation, United States Department of Justice.

ACTION: Notice of proposed rulemaking; extension of comment period.

SUMMARY: The Department of Justice (Department or DOJ), Federal Bureau of Investigation (FBI), is extending the comment period for its proposal to exempt “The Next Generation Identification (NGI) System,” JUSTICE/FBI-009, from certain provisions of the Privacy Act, published in the Federal Register on May 5, 2016 (81 FR 27288). The original comment period is scheduled to expire on June 6, 2016. The Department is now extending the time period for public comments by 30 days. The updated comment period is scheduled to expire on July 6, 2016. This action will allow interested persons additional time to analyze the proposal and prepare their comments.

DATES: Comments on the notice of proposed rulemaking published May 5, 2016 (81 FR 27288) must be submitted on or before July 6, 2016.

ADDRESSES: Address all comments to the Privacy Analyst, Privacy and Civil Liberties Office, National Place Building, 1331 Pennsylvania Ave. NW., Suite 1000, Washington, DC 20530-0001 or facsimile 202-307-0693. To ensure proper handling, please reference either this CPCLO Order No., or the CPCLO Order No. from the original notice of proposed rulemaking (CPCLO Order No. 003-2016) on your correspondence. You may review an electronic version of the proposed rule at http://www.regulations.gov. You may also comment via the Internet to either ProposedRegulations@usdoj.gov; or by using the http://www.regulations.gov comment form. When submitting comments electronically, you must include the CPCLO Order No., as described above, in the subject box.

Please note that the Department is requesting that electronic comments be submitted before midnight Eastern Daylight Savings Time on the day the comment period closes because http://www.regulations.gov terminates the public's ability to submit comments at that time. Commenters in time zones other than Eastern Time may want to consider this so that their electronic comments are received. All comments sent via regular or express mail will be considered timely if postmarked on the day the comment period closes.

Posting of Public Comments: Please note that all comments received are considered part of the public record and made available for public inspection online at http://www.regulations.gov and in the Department's public docket. Such information includes personal identifying information (such as your name, address, etc.) voluntarily submitted by the commenter.

If you want to submit personal identifying information (such as your name, address, etc.) as part of your comment, but do not want it to be posted online or made available in the public docket, you must include the phrase “PERSONAL IDENTIFYING INFORMATION” in the first paragraph of your comment. You must also place all personal identifying information you do not want posted online or made available in the public docket in the first paragraph of your comment and identify what information you want redacted.

If you want to submit confidential business information as part of your comment, but do not want it to be posted online or made available in the public docket, you must include the phrase “CONFIDENTIAL BUSINESS INFORMATION” in the first paragraph of your comment. You must also prominently identify confidential business information to be redacted within the comment. If a comment has so much confidential business information that it cannot be effectively redacted, all or part of that comment may not be posted online or made available in the public docket.

Personal identifying information and confidential business information identified and located as set forth above will be redacted and the comment, in redacted form, will be posted online and placed in the Department's public docket file. Please note that the Freedom of Information Act applies to all comments received. If you wish to inspect the agency's public docket file in person by appointment, please see the FOR FURTHER INFORMATION CONTACT paragraph.

FOR FURTHER INFORMATION CONTACT: Roxane M. Panarella, Assistant General Counsel, Privacy and Civil Liberties Unit, Office of the General Counsel, FBI, Washington, DC 20535-0001, telephone 304-625-4000.

SUPPLEMENTARY INFORMATION: On May 5, 2016, the Department requested comments on its proposal to modify an existing FBI system of records notice titled, “Fingerprint Identification Records System (FIRS),” JUSTICE/FBI-009, and its proposal to amend the Department's Privacy Act regulations by establishing an exemption for records in this system of records from certain provisions of the Privacy Act pursuant to 5 U.S.C. 552a(j) and (k).

Both the notice of a modified system of records notice and notice of proposed rulemaking for this system of records originally provided that comments must be received by June 6, 2016. The Department has received requests to extend these comment periods. The Department believes that extending the comment periods would be appropriate in order to provide the public additional time to consider and comment on the proposals addressed in these notices. Therefore, the Department is extending both public comment periods for 30 days, until July 6, 2016. Elsewhere in the Federal Register, the Department is extending the comment period for the accompanying notice of modified system of records.

Dated: June 1, 2016.
Erika Brown Lee,
Chief Privacy and Civil Liberties Officer, U.S. Department of Justice.

[FR Doc. 2016-13352 Filed 6-3-16; 8:45 am]

BILLING CODE 4410-02-P